FEDERAL COMMUNICATIONS COMMISSION

47 CFR Part 73

[DA 06-625; MB Docket No. 04-426, RM-11125]

Radio Broadcasting Services; Beaumont and Mont Belvieu, TX

AGENCY: Federal Communications Commission.

ACTION: Final rule.

SUMMARY: At the request of Cumulus Licensing, LLC, licensee of Station KRWP(FM), Beaumont, Texas, the Audio Division reallots Channel 248C from Beaumont to Mont Belvieu, Texas, as the community's first local aural transmission service, and modifies the license for Station KRWP(FM) to reflect the changes. See 69 FR 77976, December 29, 2004. Channel 248C is reallotted at Mont Belvieu at Station KRWP(FM)'s license site 50.1 kilometers (31.1 miles) east of the community at coordinates 29-41-52 NL and 94-24-09 WL.

DATES: Effective March 23, 2006.

ADDRESSES: Federal Communications Commission, 445 Twelfth Street, SW., Washington, DC 20554.

FOR FURTHER INFORMATION CONTACT: Victoria M. McCauley, Media Bureau, (202) 418-2180.

SUPPLEMENTARY INFORMATION: This is a synopsis of the Commission's Report and Order, MB Docket No. 04-426 adopted February 2, 2006, and released February 6, 2006. The full text of this Commission decision is available for inspection and copying during regular business hours at the FCC's Reference Information Center, Portals II, 445 Twelfth Street, SW., Room CY-A257, Washington, DC 20554. The complete text of this decision may also be purchased from the Commission's duplicating contractor, Best Copy and Printing, Inc., 445 12th Street, SW., Room CY-B402, Washington, DC 20054, telephone 1-800-378-3160 or http://www.BCPIWEB.com. The Commission will send a copy of this Report and Order in a report to be sent to Congress and the Government Accountability Office pursuant to the Congressional Review Act, see 5 U.S.C. 801(a)(1)(A).

List of Subjects in 47 CFR Part 73

Radio, Radio broadcasting.

47 CFR part 73 is amended as follows:

PART 73—RADIO BROADCAST SERVICES

1. The authority citation for part 73 continues to read as follows:

Authority: 47 U.S.C. 154, 303, 334 and 336.

§ 73.202 [Amended]

2. Section 73.202(b), the Table of FM Allotments under Texas, is amended by removing Channel 248C1 at Beaumont and adding Mont Belvieu, Channel 248C.

Federal Communications Commission.
John A. Karousos,
Assistant Chief, Audio Division, Media Bureau.

[FR Doc. 06-1526 Filed 2-21-06; 8:45 am]

BILLING CODE 6712-01-P